DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Health Care Research Training.

Date: January 23-24, 2003 (Open from 8 a.m. to 8:15 a.m. on January 23 and closed for remainder of the meeting).

Place: AHRQ, 6010 Executive Boulevard, 4th Floor Conference Center, Rockville, Maryland 20852.

2. Name of Subcommittee: Health Care Technology and Decision Sciences.

Date: February 6-7, 2003 (Open from 8 a.m. to 8:15 a.m. on February 6 and closed for remainder of the meeting).

Place: AHRQ, 6010 Executive Boulevard, 4th Floor Conference Center, Rockville, Maryland 20852.

3. Name of Subcommittee: Health Research Dissemination and Implementation.

Date: February 10-11, 2003 (Open from 8 a.m. to 8:15 a.m. on February 10 and closed for remainder of the meeting).

Place: AHRQ, 6010 Executive Boulevard, 4th Floor Conference Center, Rockville, Maryland 20852.

4. Name of Subcommittee: Health Systems Research.

Date: February 24-25, 2003 (Open for 6 p.m. to 6:15 p.m. on February 24 and closed for remainder of the meeting).

Place: Doubletree Hotel, 1750 Rockville Pike, Conference Room TBD, Rockville, Maryland 20852 (For February 24 Meeting). AHRQ, 6010 Executive Boulevard, 4th Floor Conference Center, Rockville, Maryland 20852 (For February 25 Meeting).

5. Name of Subcommittee: Health Care Quality and Effectiveness Research.

Place: February 26-27, 2003 (Open from 7 p.m. to 7:15 p.m. on February 26 and closed for remainder of the meeting).

Place: Doubletree Hotel, 1750 Rockville Pike, Conference Room TBD, Rockville, Maryland 20852 (For February 26 Meeting). AHRQ, 6010 Executive Boulevard, 4th Floor Conference Center, Rockville, Maryland 20852 (For February 27 Meeting).

Contact Person: Anyone wishing to obtain a roster of members, agenda or minutes of the nonconfidential portions of the meetings should contact Mrs. Bonnie Campbell, Committee Management Officer, Office of Research Review, Education and Policy, AHRQ, 2101 East Jefferson Street, Suite 400, Rockville, Maryland 20852, Telephone (301) 594-1846.

Agenda items for these meetings are subject to change as priorities dictate.

Dated: December 27, 2002.
Carolyn M. Clancey,
Acting Director.

[FR Doc. 03-288 Filed 1-6-03; 8:45 am]

BILLING CODE 4160-90-M